DEPARTMENT OF HOMELAND SECURITY

Coast Guard

[Docket No. USCG-2017-0768]

Merchant Marine Personnel Advisory Committee

AGENCY: U.S. Coast Guard, Department of Homeland Security.

ACTION: Notice of Federal Advisory Committee Meeting.

SUMMARY: The Merchant Marine Personnel Advisory Committee and its Working Groups will meet to discuss various issues related to the training and fitness of merchant marine personnel. The meetings will be open to the public.

DATES: The Merchant Marine Personnel Advisory Committee and its Working Groups are scheduled to meet on Thursday, September 14, 2017, from 8 a.m. until 5:30 p.m., and the full Committee is scheduled to meet on Friday September 15, 2017, from 8 a.m. until 5:30 p.m. Please note that these meetings may adjourn early if the Committee has completed its business.

ADDRESSES: The meetings will be held at Seattle University, in the Bannan Auditorium, 901 12th Avenue, Seattle, WA 98122-1090 (https://www.seattleu.edu/).

For information on facilities or services for individuals with disabilities or to request special assistance at the meeting, contact the Alternate Designated Federal Officer as soon as possible using the contact information provided in the FOR FURTHER INFORMATION CONTACT section of this notice.

Instructions: You are free to submit comments at any time, including orally at the meetings, but if you want Committee members to review your comment before the meetings, please submit your comments no later than September 6, 2017. We are particularly interested in comments on the issues in the “Agenda” section below. You must include “Department of Homeland Security” and the docket number USCG-2017-0768. Written comments may also be submitted using the Federal eRulemaking Portal at http://www.regulations.gov. If you encounter technical difficulties with comments submission, contact the individual listed in the FOR FURTHER INFORMATION CONTACT section below. Comments received will be posted without alteration at http://www.regulations.gov, including any personal information provided. You may review the Privacy and Security Notice for the Federal Docket Management System at https://www.regulations.gov/privacyNotice.

Docket Search: For access to the docket to read documents or comments related to this notice, go to http://www.regulations.gov, type USCG-2017-0768 in the “Search” box, press Enter, and then click on the item you wish to view.

FOR FURTHER INFORMATION CONTACT: Lieutenant Junior Grade James Fortin, Alternate Designated Federal Officer of the Merchant Marine Personnel Advisory Committee, 2703 Martin Luther King Jr. Ave. SE., Stop 7509, Washington, DC 20593-7509, telephone 202-372-1128, fax 202-372-8385 or james.l.fortin@uscg.mil.

SUPPLEMENTARY INFORMATION: Notice of this meeting is given pursuant to the Federal Advisory Committee Act, Title 5 United States Code Appendix.

The Merchant Marine Personnel Advisory Committee was established under authority of section 310 of the Howard Coble Coast Guard and Maritime Transportation Act of 2014, codified at Title 46, United States Code, section 8108, and chartered under the provisions of the Federal Advisory Committee Act, (Title 5, United States Code, Appendix). The Committee acts solely in an advisory capacity to the Secretary of the Department of Homeland Security through the Commandant of the U.S. Coast Guard on matters relating to personnel in the United States merchant marine, including training, qualifications, certification, documentation, and fitness standards and other matters as assigned by the Commandant. The Committee shall also review and comment on proposed U.S. Coast Guard regulations and policies relating to personnel in the United States merchant marine, including training, qualifications, certification, documentation, and fitness standards; may be given special assignments by the Secretary, and may conduct studies, inquiries, workshops, and fact finding in consultation with individuals and groups in the private sector and with State or local governments; and shall advise, consult with, and make recommendations reflecting its independent judgment to the Secretary.

Agenda

Day 1

The agenda for the September 14, 2017, meeting is as follows:

(1) The full Committee will meet briefly to discuss the Working Groups' business/task statements, which are listed under paragraph 3(a)-(g) below.

(2) Public comment period.

(3) Working Groups will separately address the following task statements which are available for viewing at https://homeport.uscg.mil/merpac:

(a) Task Statement 87, Review of policy documents providing guidance on the implementation of the December 24, 2013, International Convention on Standards of Training, Certification and Watchkeeping for Seafarers rulemaking;

(b) Task Statement 89, Review and update of the International Maritime Organization's Maritime Safety Committee Circular MSC.1014, “Guidelines on Fatigue Mitigation and Management”;

(c) Task Statement 96, Review and comment on the course and program approval requirements including 46 CFR 10.402, 10.403, 10.407 and Navigation and Vessel Inspection Circular 03-14 guidelines for approval of training courses and programs;

(d) Task Statement 98, Continue the progress made by the military services towards meeting the goals on the use of Military Education, Training and Assessment for STCW and National Mariner Endorsements as identified in the Howard Coble Coast Guard and Maritime Transportation Act of 2014 and subsequent legislation;

(e) Task Statement 99, Review and comment on the “Guidelines for Issuing Endorsement for Tankerman PIC Restricted to Fuel Transfers on Towing Vessels” policy letter (CG-MMC Policy Letter No. 01-17);

(f) Task Statement 101, Provide feedback and avenues to further enhance open communication between external stakeholders and the U.S. Coast Guard's mariner credentialing program regarding all aspects of the program;

(g) Task Statement 102, Consider and make recommendations regarding the current requirement for a U.S. Merchant Mariner to read and write using English;

(h) Task Statement 103, Input to Support Regulatory Reform of Coast Guard Regulations—Executive Orders 13771 and 13783.

(4) Reports of Working Groups. At the end of the day, the Working Groups will report to the full Committee on what was accomplished in their meetings. The full Committee will not take action on these reports on this date. Any official action taken as a result of these Working Group meetings will be taken on day two of the meeting.

(5) Public comment period.

(6) Adjournment of meeting.

Day 2

The agenda for the September 15, 2017, full Committee meeting is as follows:

(1) Introduction.

(2) Swear in newly appointed Committee members.

(3) Remarks from U.S. Coast Guard Leadership.

(4) Designated Federal Officer announcements.

(5) Roll call of Committee members and determination of a quorum.

(6) Reports from the following Working Groups:

(a) Task Statement 87, Review of policy documents providing guidance on the implementation of the December 24, 2013, International Convention on Standards of Training, Certification and Watchkeeping for Seafarers rulemaking;

(b) Task Statement 89, Review and update of the International Maritime Organization's Maritime Safety Committee Circular MSC.1014, “Guidelines on Fatigue Mitigation and Management”;

(c) Task Statement 96, Review and comment on the course and program approval requirements including 46 CFR 10.402, 10.403, 10.407 and Navigation and Vessel Inspection Circular 03-14 guidelines for approval of training courses and programs;

(d) Task Statement 98, continue the progress made by the military services towards meeting the goals on the use of Military Education, Training and Assessment for STCW and National Mariner Endorsements as identified in the Howard Coble Coast Guard and Maritime Transportation Act of 2014 and subsequent legislation;

(e) Task Statement 99, Review and comment on the “Guidelines for Issuing Endorsement for Tankerman PIC Restricted to Fuel Transfers on Towing Vessels” policy letter (CG-MMC Policy Letter No. 01-17);

(f) Task Statement 101, Provide feedback and avenues to further enhance open communication between external stakeholders and the U.S. Coast Guard's mariner credentialing program regarding all aspects of the program;

(g) Task Statement 102, consider and make recommendations regarding the current requirement for a U.S. Merchant Mariner to read and write using English;

(h) Task Statement 103, Input to Support Regulatory Reform of Coast Guard Regulations-Executive Orders 13771 and 13783.

(7) Other items for discussion:

(a) Report on the Implementation of the 2010 Amendments to the International Convention on Standards of Training, Certification and Watchkeeping;

(b) Report on National Maritime Center activities from the National Maritime Center Commanding Officer, such as the net processing time it takes for mariners to receive their credentials after application submittal;

(c) Report on Mariner Credentialing Program Policy Division activities, such as its current initiatives and projects;

(d) Report on International Maritime Organization/International Labor Organization issues related to the merchant marine industry; and

(e) Briefings about on-going U.S. Coast Guard projects related to personnel in the U.S. merchant marine.

(8) Public comment period.

(9) Discussion of Working Group recommendations.

The Committee will review the information presented on each issue, deliberate on any recommendations presented by the Working Groups, and approve/formulate recommendations. Official action on these recommendations may be taken on this date.

(10) Closing remarks/plans for next meeting.

(11) Adjournment of meeting.

A public comment period will be held during each Working Group and full Committee meeting concerning matters being discussed.

A copy of all meeting documentation will be available at https://homeport.uscg.mil/merpac no later than September 4, 2017. Alternatively, you may contact Lieutenant Junior Grade James Fortin as noted in the FOR FURTHER INFORMATION section above.

Public comments will be limited to three minutes per speaker. Please note that the public comment periods will end following the last call for comments. Please contact Lieutenant Junior Grade James Fortin, listed in the FOR FURTHER INFORMATION CONTACT section, to register as a speaker.

Please note that the meeting may adjourn early if the work is completed.

Dated: August 15, 2017.
Jeffrey G. Lantz,
Director of Commercial Regulations and Standards.

[FR Doc. 2017-17693 Filed 8-21-17; 8:45 am]

BILLING CODE 9110-04-P